DEPARTMENT OF HEALTH AND HUMAN SERVICES

Indian Health Service

Request for Public Comment: 60 Day Notice for Extension of the Indian Health Service Loan Repayment Program (LRP)

AGENCY: Indian Health Service, HHS.

ACTION: Notice and request for comments. Request for extension of approval.

SUMMARY: In compliance with the Paperwork Reduction Act of 1995, the Indian Health Service (IHS) invites the general public to take this opportunity to comment on the information collection Office of Management and Budget (OMB) Control Number 0917-0014, titled, “IHS Loan Repayment Program (LRP).”

DATES: Consideration will be given to all comments received by October 5, 2021.

ADDRESSES: For Comments: Submit comments to Jackie Santiago by one of the following methods:

• Email: Jackie.Santiago@ihs.gov.

Comments submitted in response to this notice will be made available to the public by publishing them in the 30 day Federal Register notice for this information collection. For this reason, please do not include information of a confidential nature, such as sensitive personal information or proprietary information. If comments are submitted via email, the email address will be automatically captured and included as part of the comment that is placed in the public docket and made available on the internet. Please note that responses to this public comment request containing any routine notice about the confidentiality of the communication will be treated as public comments that may be made available to the public notwithstanding the inclusion of the routine notice.

A copy of the draft supporting statement is available at www.regulations.gov (see Docket ID (IHS_FRDOC_0001)).

FOR FURTHER INFORMATION CONTACT: To request additional information, please contact Evonne Bennett, Information Collection Clearance Officer at: Evonne.Bennett@ihs.gov or 301-443-4750.

SUPPLEMENTARY INFORMATION: This previously approved information collection project was last published in the Federal Register (83 FR 6601) on February 14, 2018, and allowed 30 days for public comment. No public comment was received in response to the notice. This notice announces our intent to submit this collection, which expires November 30, 2021, to OMB for approval of an extension and solicit comments on specific aspects for the proposed information collection.

The IHS is submitting the proposed information collection to OMB for review, as required by the Paperwork Reduction Act of 1995, as amended, and its implementing regulations. This notice is soliciting comments from members of the public and affected agencies as required by 44 U.S.C. 3506(c)(2)(A) and 5 CFR 1320.8(d) concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques of other forms of information technology, e.g., permitting electronic submission of responses.

Title: 0917-0014, “Indian Health Service Loan Repayment Program.”

Type of Information Collection Request: Three year extension approval of this information collection.

OMB Control Number: 0917-0014.

Forms: Educational and Professional Background, Financial Information, and General Applicant Information (i.e., all forms are part of the LRP application). The LRP application is available in an electronically fillable and fileable format.

Need and Use of Information Collection: The IHS LRP identifies health professionals with pre-existing financial obligations for education expenses that meet program criteria and who are qualified and willing to serve at, often remote, IHS health care facilities. Under the program, eligible health professionals sign a contract through which the IHS agrees to repay part or all of their indebtedness in exchange for an initial two-year service commitment to practice fulltime at an eligible Indian health program. This program is necessary to augment the critically low health professional staff at IHS health care facilities.

Eligible health professionals wishing to have their health education loans repaid may apply to the IHS LRP. A two-year contract obligation is signed by both parties, and the individual agrees to work at an eligible Indian health program location and provide health services to American Indian and Alaska Native individuals.

The information collected via the on-line application from individuals is analyzed and a score is given to each applicant. This score will determine which applicants will be awarded each fiscal year. The administrative scoring system assigns a score to the geographic location according to vacancy rates for that fiscal year and also considers whether the location is in an isolated area. When an applicant accepts employment at a location, the applicant in turn “picks-up” the score of that location.

Status of the Proposed Information Collection: Renewal of a current collection.

Affected Public: Individuals and households.

Type of Respondents: Individuals.

The table below provides: Types of data collection instruments, estimated number of respondents, Number of responses per respondent, annual number of responses, Average burden hour per response, and Total annual burden hour(s).

Estimated Burden Hours
Data collection instrument(s) | Number of respondents | Number of responses per respondent | Average burden per response (in hours) | Total annual responses (in hours)
LRP Application | 1,999 | 1 | 1.5 | 2,998.5
LRP Application (3 forms in total)

There are no Capital Costs, Operating Costs, and/or Maintenance Costs to report.

Elizabeth A. Fowler,
Acting Director, Indian Health Service.

[FR Doc. 2021-16837 Filed 8-5-21; 8:45 am]

BILLING CODE 4165-16-P